NUCLEAR WASTE TECHNICAL REVIEW BOARD

Notice of Members of Senior Executive Service Performance Review Board

This notice announces the membership of the U.S. Nuclear Waste Technical Review Board (NWTRB) Senior Executive Service (SES) Performance Review Board (PRB).

DATES: Applicable immediately and until December 1, 2024.

ADDRESSES: Send comments concerning this notice to: U.S. Nuclear Waste Technical Review Board, Clarendon Blvd., Suite 1300, Arlington, VA 22201-3367.

FOR FURTHER INFORMATION CONTACT: Neysa M. Slater-Chandler, Director of Administration, slater-chandler@nwtrb.gov.

SUPPLEMENTARY INFORMATION: Section 4314(c)(1) through (5) of Title 5 of the United States Code, requires each agency to establish, in accordance with regulations prescribed by the Office of Personnel Management, one or more SES Performance Review Boards. Section 4314(c)(4) of Title 5 requires that notice of appointment of board members be published in the Federal Register.

The following executives have been designated as members of the Performance Review Board for the U.S. Nuclear Waste Technical Review Board:

R. Todd Davis, Associate Technical Director, Nuclear Programs and Analysis, Defense Nuclear Facilities Safety Board

Timothy J. Dwyer, Acting Deputy Technical Director, Defense Nuclear Facilities Safety Board

Richard E. Tontodonato, Associate Technical Director, Nuclear Weapon Programs, Defense Nuclear Facilities Safety Board

Candice Trummell, Senior Policy Advisor, Office of Environmental Management, U.S. Department of Energy

Dated: January 9, 2024.
Neysa M. Slater-Chandler,
Director of Administration, U.S. Nuclear Waste Technical Review Board.

[FR Doc. 2024-00703 Filed 1-16-24; 8:45 am]

BILLING CODE 6820-AM-P